DEPARTMENT OF TRANSPORTATION

Federal Aviation Administration

Agency Information Collection Activities: Requests for Comments; Clearance of Renewed Approval of Information Collection: Suspected Unapproved Parts Notification

AGENCY: Federal Aviation Administration (FAA), DOT.

ACTION: Notice and request for comments.

SUMMARY: In accordance with the Paperwork Reduction Act of 1995, FAA invites public comments about our intention to request the Office of Management and Budget (OMB) approval to renew an information collection. The information collected on the FAA Form 8120-11 is used by those who wish to report suspected unapproved parts to the FAA for review. The information is used to determine if an unapproved, part investigation is warranted.

DATES: Written comments should be submitted by July 9, 2012.

FOR FURTHER INFORMATION CONTACT: Kathy DePaepe at (405) 954-9362, or by email at: Kathy.A.DePaepe@faa.gov.

SUPPLEMENTARY INFORMATION: OMB Control Number: 2120-0552.

Title: Suspected Unapproved Parts Notification.

Form Numbers: FAA Form 8120-11.

Type of Review: Renewal of an information collection.

Background: 49 U.S.C. 44701 empowers the Administrator of the Federal Aviation Administration (FAA) to provide reasonable rules and regulations for minimum standards governing the design, materials, construction, and performance of aircraft, engines, and propellers as may be required to ensure safety in air transportation. Submission of the Suspected Unapproved Parts Report, FAA Form 8120-11, is necessary to ensure that only FAA-approved parts are installed on type certificated aircraft, and that continued airworthiness is maintained. The information collected on the FAA Form 8120-11 will be reported voluntarily by manufacturers, repair stations, aircraft owner/operators, air carriers, and the general public who wish to report suspected unapproved parts to the FAA for review.

Respondents: Approximately 150 manufacturers, repair stations, aircraft owner/operators, and air carriers.

Frequency: Information is collected on occasion.

Estimated Average Burden per Response: 30 minutes.

Estimated Total Annual Burden: 75 hours.

ADDRESSES: Send comments to the FAA at the following address: Ms. Kathy DePaepe, Room 126B, Federal Aviation Administration, AES-200, 6500 S. MacArthur Blvd., Oklahoma City, OK 73169.

Public Comments Invited: You are asked to comment on any aspect of this information collection, including (a) whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

Issued in Washington, DC on May 3, 2012.
Albert R. Spence,
FAA Assistant Information Collection Clearance Officer, IT Enterprises Business Services Division, AES-200.

[FR Doc. 2012-11225 Filed 5-8-12; 8:45 am]

BILLING CODE 4910-13-P